DEPARTMENT OF ENERGY

Federal Energy Regulatory Commission

Combined Notice of Filings

Take notice that the Commission has received the following Natural Gas Pipeline Rate and Refund Report filings:

Filings Instituting Proceedings

Docket Numbers: RP19-351-001.

Applicants: Tennessee Gas Pipeline Company, L.L.C

Description: Compliance filing Petition for an Extension Amendment to File FERC Form 501-G.

Filed Date: 1/28/19.

Accession Number: 20190128-5057.

Comments Due: 12 p.m. ET 2/1/19.

Docket Numbers: RP19-580-000.

Applicants: Algonquin Gas Transmission, LLC.

Description: § 4(d) Rate Filing: NCF Agreement Cleanup to Remove ConEd 510371 to be effective 2/28/2019.

Filed Date: 1/28/19.

Accession Number: 20190128-5033.

Comments Due: 5 p.m. ET 2/11/19.

Docket Numbers: RP19-581-000.

Applicants: Rager Mountain Storage Company LLC.

Description: Compliance filing Order No. 587-Y—Request for Extension of Time.

Filed Date: 1/28/19.

Accession Number: 20190128-5044.

Comments Due: 5 p.m. ET 2/11/19.

Docket Numbers: RP19-582-000.

Applicants: Equitrans, L.P

Description: Compliance filing Order No. 587-Y—Request for Extension of Time.

Filed Date: 1/28/19.

Accession Number: 20190128-5053.

Comments Due: 5 p.m. ET 2/11/19.

Docket Numbers: RP19-583-000.

Applicants: Algonquin Gas Transmission, LLC.

Description: § 4(d) Rate Filing: Negotiated Rate -Boston Gas 510798 releases eff 2-1-19 to be effective 2/1/2019.

Filed Date: 1/28/19.

Accession Number: 20190128-5136.

Comments Due: 5 p.m. ET 2/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2019.
Kimberly D. Bose,
Secretary.

[FR Doc. 2019-00959 Filed 2-4-19; 8:45 am]

BILLING CODE 6717-01-P